DEPARTMENT OF STATE

[Public Notice 7219]

60-Day Notice of Proposed Information Collection: DS-156, Nonimmigrant Visa Application, OMB Control Number 1405-0018

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Nonimmigrant Visa Application.

• OMB Control Number: 1405-0018.

• Type of Request: Revision of a Currently Approved Collection.

• Originating Office: Bureau of Consular Affairs (CA/VO).

• Form Number: DS-156.

• Respondents: Nonimmigrant visa applicants.

• Estimated Number of Respondents: 800,000.

• Estimated Number of Responses: 800,000.

• Average Hours per Response: 1 hour.

• Total Estimated Burden: 800,000 hours per year.

• Frequency: Once per respondent.

• Obligation to Respond: Required to Obtain or Retain a Benefit.

DATES: The Department will accept comments from the public up to 60 days from December 27, 2010.

ADDRESSES: You may submit comments by any of the following methods:

• E-mail: VisaRegs@state.gov (Subject line must read DS-156 Reauthorization).

• Mail (paper, disk, or CD-ROM submissions): Chief, Legislation and Regulation Division, Visa Services—DS-156 Reauthorization, 2401 E. Street, NW., Washington, DC 20520-30106.

You must include the DS form number (if applicable), information collection title, and OMB control number in any correspondence.

FOR FURTHER INFORMATION CONTACT: Direct requests for additional information regarding the collection listed in this notice, including requests for copies of the proposed information collection and supporting documents, to Stefanie Claus of the Office of Visa Services, U.S. Department of State, 2401 E. Street, NW., L-603, Washington, DC 20522, who may be reached at (202) 663-2910.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

Form DS-156 is required by regulation of all nonimmigrant visa applicants who do not use the Online Application for Nonimmigrant Visa (Form DS-160). Posts will use the DS-156 to elicit information necessary to determine an applicant's visa eligibility.

Methodology

The DS-156 is completed by applicants online or, in exceptional circumstances, applicants may submit a paper application to posts abroad. The applicant prints the application and a 2-D barcode. When the applicant appears at the interview the barcode is scanned and the information electronically received.

Dated: October 19, 2010.
Ellen M. Conway,
Deputy Assistant Secretary, Acting, Bureau of Consular Affairs, Department of State.

[FR Doc. 2010-27300 Filed 10-27-10; 8:45 am]

BILLING CODE 4710-06-P